DEPARTMENT OF THE INTERIOR

Fish and Wildlife Service

Notice of Availability, Initial Restoration and Compensation Determination Plan (RCDP) for the August 27, 1998, Clinch River Chemical Spill in Tazewell County, VA

AGENCY: Fish and Wildlife Service, Department of the Interior.

ACTION: Notice of availability.

SUMMARY: The U.S. Fish and Wildlife Service (FWS), on behalf of the U.S. Department of the Interior (DOI), announces the release for public review of the Initial Restoration and Compensation Determination Plan (RCDP) for the August 27, 1998, Clinch River Chemical Spill in Tazewell County, Virginia. The RCDP describes the trustee's proposal to restore natural resources injured as a result of a release of hazardous substances.

DATES: Written comments must be submitted on or before June 30, 2002.

ADDRESSES: Requests for copies of the RCDP may be made to the U.S. Fish and Wildlife Service, Virginia Field Office, 6669 Short Lane, Gloucester, Virginia 23061.

Written comments or materials regarding the RCDP should be sent to the same address.

FOR FURTHER INFORMATION CONTACT: John Schmerfeld, U.S. Fish and Wildlife Service, 6669 Short Lane, Gloucester, Virginia 23061. Interested parties may also call 804-693-6694 x107 for further information.

SUPPLEMENTARY INFORMATION: On August 27, 1998, a tanker truck overturned on U.S. Route 460 in Tazewell County, Virginia. The truck released approximately 1,350 gallons of Octocure 554-revised, a rubber accelerant, into an unnamed tributary about 530 feet from its confluence with the Clinch River. The spill turned the river a snowy white color and caused a significant fish kill. The spill also killed aquatic benthic macroinvertebrates for about 6.6 miles downstream. Using a conservative correction factor, an estimated 18,600 or more freshwater mussels were killed by the spill, including 750 individuals of 3 federally endangered mussel species. This spill is likely the single largest take of federally listed endangered species since the enactment of the Endangered Species Act. This spill destroyed one of the last two known remaining reproducing populations of the critically endangered tan riffleshell mussel.

Under the authority of the Comprehensive Environmental Response, Compensation and Liability Act of 1980, as amended (CERCLA), 42 U.S.C. 9601 et seq., “natural resource trustees may assess damages to natural resources resulting from a discharge of oil or a release of a hazardous substance * * * and may seek to recover those damages.” Natural resource damage assessments (NRDA) are separate from the cleanup actions undertaken at a hazardous waste or spill site, and provide a process whereby the natural resource trustees can determine the proper compensation to the public for injury to natural resources. The NRDA process seeks to: (1) Determine whether injury to, or loss of, trust resources has occurred; (2) ascertain the magnitude of the injury or loss; (3) calculate the appropriate compensation for the injury, including the cost of restoration; and (4) develop a restoration plan that will restore, rehabilitate, replace and/or acquire equivalent resources for injured or lost resources.

The DOI is the sole acting federal natural resource trustee for this case. The DOI has designated the FWS to act as its authorized official with regard to this case. An assessment plan (AP) was developed by the FWS with public input in April 2001. The AP outlined a set of studies that were designed to identify and quantify natural resource injuries that resulted from the August 27, 1998 release. The assessment phase of this NRDA has been completed and the results of all injury assessment studies have been reviewed by the FWS. This RCDP has been developed in order to publish the results of the injury assessment studies and to consider a number of restoration alternatives that will make the public whole again for their natural resource loss. Cost estimation methodologies and general environmental consequences of each restoration alternative are considered and a preferred restoration alternative is proposed. The proposed preferred alternative includes propagation of freshwater mussels, riparian habitat protection, and community education.

Interested members of the public are invited to review and comment on the RCDP. Copies of the RCDP are available for review at the FWS's Virginia Field Office in Gloucester, Virginia and at the FWS's Southwestern Virginia Field Office located at 330 Cummings Street, Suite A, Abingdon, Virginia 24210. Written comments will be considered and addressed in the final RCDP.

Author: The primary author of this notice is John Schmerfeld, U.S. Fish & Wildlife Service, Virginia Field Office, 6669 Short Lane, Gloucester, Virginia 23061.

Authority: The authority for this action is the Comprehensive Environmental Response, Compensation, and Liability Act (CERCLA) of 1980 as amended, commonly known as Superfund, (42 U.S.C. 9601 et seq.) and the Natural Resource Damage Assessment Regulations found at 43 CFR, part 11.

Dated: April 24, 2002.
Mamie A. Parker,
Regional Director, Region 5, U.S. Fish and Wildlife Service, DOI Designated Authorized Official.

[FR Doc. 02-11364 Filed 5-7-02; 8:45 am]

BILLING CODE 4310-55-P